ENVIRONMENTAL PROTECTION AGENCY

[EPA-HQ-OW-2020-0276; FRL-12660-01-OMS]

Agency Information Collection Activities; Submission to the Office of Management and Budget for Review and Approval; Comment Request; Clean Water Act Section 404 State-Assumed Programs (Renewal)

AGENCY: Environmental Protection Agency (EPA).

ACTION: Notice.

SUMMARY: The Environmental Protection Agency (EPA) has submitted an information collection request (ICR), Clean Water Act Section 404 State-Assumed Programs (OMB Control Number 2040-0168; EPA ICR Number 0220.18) to the Office of Management and Budget (OMB) for review and approval in accordance with the Paperwork Reduction Act. This is a proposed extension of the ICR, which is currently approved through February 28, 2025. Public comments were previously requested via the Federal Register on August 14, 2023, during a 60-day comment period. This notice allows for an additional 30 days for public comments.

DATES: Comments may be submitted on or before March 31, 2025.

ADDRESSES: Submit your comments, referencing Docket ID Number EPA-HQ-OW-2020-0276, to EPA online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Christine Maietta, Oceans, Wetlands, and Communities Division, Office of Wetlands, Oceans, and Watersheds, (Mail Code 4504T), Environmental Protection Agency, 1200 Pennsylvania Ave. NW, Washington, DC 20460; telephone number: (202) 564-3351; email address: 404g-rulemaking@epa.gov.

SUPPLEMENTARY INFORMATION: This is a proposed extension of the ICR, which is currently approved through February 28, 2025. An agency may not conduct or sponsor, and a person is not required to respond to, a collection of information unless it displays a currently valid OMB control number.

Public comments were previously requested via the Federal Register on August 14, 2023 during a 60-day comment period (88 FR 55276). This notice allows for an additional 30 days for public comments. Supporting documents, which explain in detail the information that the EPA will be collecting, are available in the public docket for this ICR. The docket can be viewed online at www.regulations.gov or in person at the EPA Docket Center, WJC West, Mail Code 28221T, 1200 Pennsylvania Ave. NW, Washington, DC 20460. The telephone number for the Docket Center is 202-566-1744. For additional information about EPA's public docket, visit http://www.epa.gov/dockets.

Abstract: This information collection request describes the burden (hours) and labor cost (dollars) associated with 40 CFR 233, the regulations that implement Clean Water Act Section 404(g). The Clean Water Act authorizes states [tribes] to assume the section 404 permit program for discharges of dredged or fill material into certain waters of the U.S. Implementing regulations establish specific information that must be submitted to EPA when a state/tribe requests program assumption and while administering the program. There are three types of information collected for different needs. The three parts are: (1) Information needed for EPA to review and approve state or tribal requests to assume the program; (2) information needed from permit applicants for reviewing and processing the permit application; and (3) information the state or tribe must submit to EPA in their annual report summarizing program administration.

Form Numbers: None.

Respondents/affected entities: Tribes, states, and the regulated community (i.e., permittees)

Respondent's obligation to respond: Required to obtain or retain benefits. (40 CFR 233)

Estimated number of respondents: During the three-year collection period, the agency estimated a total of three (3) states will be approved to administer the Section 404 program (noting that two states have already received approval to administer a Section 404 program, and the agency assumed one (1) state and zero (0) Tribes will submit a new request during this collection period); and a total of 15,237 permittees are expected to seek a Section 404 permit across the three states approved to administer the Section 404 programs.

Frequency of response: Frequency of information collected from Tribes, states, and permittees depends on the associated activity. Collection frequencies vary from regular to irregular or rare.

Total estimated burden: 130,600 (per year). Burden is defined at 5 CFR 1320.03(b).

Total estimated cost: $6,576,054 (per year), includes $0 annualized capital or operation & maintenance costs.

Changes in the estimates: There is a decrease of 88,281 hours in the total estimated respondent burden compared with the ICR currently approved by OMB. The primary factor contributing to the overall decrease in burden and labor costs between this renewal and the previous ICR was the reduction in the number of Tribes and states seeking assumption and administering a Section 404 program. Other factors that influenced the overall burden and costs estimates included revising scaling factors for individual activities (e.g., completing and reviewing permit applications, and program modification) and updating labor costs to 2024 hourly wages. Additionally, the agency recognized the seven state feasibility studies provided useful information to inform burden and costs associated with Section 404 program assumption. For this reason, this collection request incorporates data from those studies and presents a summary of that information in a new “pre-submission activities” category.

Courtney Kerwin,
Director, Information Engagement Division.

[FR Doc. 2025-03311 Filed 2-27-25; 8:45 am]

BILLING CODE 6560-50-P